COMMITTEE FOR PURCHASE FROM PEOPLE WHO ARE BLIND OR SEVERELY DISABLED

Procurement List: Proposed Additions

AGENCY: Committee for Purchase From People Who Are Blind or Severely Disabled.

ACTION: Proposed additions to and deletions from Procurement List.

SUMMARY: The Committee is proposing to add to the Procurement List products and service to be furnished by nonprofit agencies employing persons who are blind.

Comments Must Be Received On or Before: 1/29/2010.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Patricia Briscoe, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions: If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the government.

2. If approved, the action will result in authorizing small entities to furnish the products and service to the government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

NSN: 9905-00-NIB-0141—Rack Cards, Double-Sided, DeCA Marketing POS Kit.

NSN: 9905-00-NIB-0142—Banner, DeCA Marketing Signage Kit, 3′ × 10′ Each.

NSN: 9905-00-NIB-0143—Buttons, DeCA Marketing Signage Kit, 3″, Each.

NSN: 9905-00-NIB-0144—Dangler, Round, Double-Sided, DeCA POS Signage.

NSN: 9905-00-NIB-0145—Poster, DeCA Marketing Signage Kit, 20′ × 30″.

NSN: 9905-00-NIB-0146—Kit, DeCA Marketing Signage, Point of Sale (POS).

NPA: Envision, Inc., Wichita, KS.

Contracting Activity: Defense Commissary Agency (DECA), Ft. Lee, VA.

Service

Service Type/Location: Landscaping Services, 761st Tank Battalion Ave, Fort Hood, TX, NPA: Training, Rehabilitation, & Development Institute, Inc., San Antonio, TX, Contracting Activity: DEPT OF THE ARMY, XR W6BB ACA HOOD, Ft. Hood, TX.

Patricia Briscoe,
Deputy Director, Business Operations.

[FR Doc. E9-30620 Filed 12-24-09; 8:45 am]

BILLING CODE 6353-01-P